NUCLEAR REGULATORY COMMISSION

[Docket No. SSD 99-27; ASLBP No. 00-778-06-ML]

GRAYSTAR, Inc.; Designation of Presiding Officer

Pursuant to delegation by the Commission, see CLI-00-10, 51 NRC _ (June 13, 2000); see also 37 FR 28,710 (Dec. 29, 1972), and the Commission's regulations, see 10 CFR 2.1201, 2.1207, notice is hereby given that (1) A single member of the Atomic Safety and Licensing Board Panel is designated as Presiding Officer to rule on petitions for leave to intervene and/or requests for hearing; and (2) upon making the requisite findings in accordance with 10 CFR 2.1205(h), the Presiding Officer will conduct an adjudicatory hearing in the following proceeding: GRAYSTAR, Inc., Suite 103, 200 Valley Road, Mt. Arlington, NJ 07856.

The hearing will be conducted pursuant to 10 CFR part 2, subpart L, of the Commission's Regulations, “Informal Hearing Procedures for Adjudications in Materials and Operator Licensing Proceedings.” This proceeding concerns a request for hearing submitted by GrayStar, Inc. (GrayStar). The request was filed in response to a May 24, 2000 NRC staff letter denying GrayStar's April 12, 1999 application for registration of its Model GS-42 source design and the Model 1 irradiator.

The Presiding Officer in this proceeding is Administrative Judge G. Paul Bollwerk, III. Pursuant to the provisions of 10 CFR 2.722, 2.1209, Administrative Judge Frederick J. Shon has been appointed to assist the Presiding Officer in taking evidence and in preparing a suitable record for review.

All correspondence, documents, and other materials shall be filed with Judges Bollwerk and Shon in accordance with 10 CFR 2.1203. Their addresses are:

Administrative Judge G. Paul Bollwerk, III, Presiding Officer, Atomic Safety and Licensing Board Panel, U.S. Nuclear Regulatory Commission, Washington, D.C. 20555-0001.

Administrative Judge Frederick J. Shon, Special Assistant, Atomic Safety and Licensing Board Panel, U.S. Nuclear Regulatory Commission, Washington, D.C. 20555-0001.

Issued at Rockville, Maryland, this 16th day of June 2000.
G. Paul Bollwerk, III,
Chief Administrative Judge, Atomic Safety and Licensing Board Panel.

[FR Doc. 00-15776 Filed 6-22-00; 8:45 am]

BILLING CODE 7590-01-P